SMALL BUSINESS ADMINISTRATION

Data Collection Available for Public Comments and Recommendations

ACTION: Notice and request for comments.

SUMMARY: In accordance with the Paperwork Reduction Act of 1995, this notice announces the Small Business Administration's intentions to request approval on a new, and/or currently approved information collection.

DATES: Submit comments on or before September 28, 2001.

ADDRESSES: Send all comments regarding whether this information collection is necessary for the proper performance of the function of the agency, whether the burden estimate is accurate, and if there are ways to minimize the estimated burden and enhance the quality of the collection, to Ana Maria Vera, Entrepreneurial Development Specialist, Business Development Division, Small Business Administration, PR & U.S. VI District Office, 252 Ponce de Leon Avenue, Citibank Towers, Suite 201, Hato Rey, PR 00918.

FOR FURTHER INFORMATION CONTACT: Ana Maria Vera, Entrepreneurial Development Specialist, (787) 766-5572 or Curtis B. Rich, Management Analyst, (202) 205-7030.

SUPPLEMENTARY INFORMATION: Title: Customer Service Evaluation.

Form No: DO-0001.

Description of Respondents: Entrepreneur's that require services through the SBA Puerto Rico & U.S. Virgin District Office.

Annual Responses: 2,700.

Annual Burden: 450.

Curtis B. Rich,
Acting Chief, Administrative Information Branch.

[FR Doc. 01-18844 Filed 7-27-01; 8:45 am]

BILLING CODE 8025-01-P